DEPARTMENT OF TRANSPORTATION

Maritime Administration

Presidential Memorandum of December 12, 2001; Marine War Risk Insurance Under Title XII of the Merchant Marine Act, 1936

On December 12, 2001, President George W. Bush approved the provision of vessel war risk insurance by memorandum for the Secretary of State and the Secretary of Transportation. The text of this memorandum reads:

By virtue of the authority vested in me by the Constitution and laws of the United States, including 3 U.S.C. 301 and section 1202 of the Merchant Marine Act, 1936, as amended (the “Act”), 46 U.S.C. App. 1282, I hereby:

Approve the provision by the Secretary of Transportation of insurance or reinsurance of vessels (including cargoes and crew) entering the Middle East region against loss or damage by war risks in the manner and to the extent approved in title XII of the Act, 46 U.S.C. App. 1281, et seq., for purposes of responding to the recent terrorist attacks, whenever, after consultation with the Department of State, it appears to the Secretary of Transportation that such insurance adequate for the needs of the waterborne commerce of the United States cannot be obtained on reasonable terms and conditions from companies authorized to do an insurance business in a State of the United States. The approval is effective for 6 months.

I hereby delegate to the Secretary of Transportation, in consultation with the Secretary of State, the authority vested in me by section 1202 of the Act, to approve the provision of insurance or reinsurance for these purposes after the expiration of 6 months.

The Secretary of Transportation is directed to bring this approval to the immediate attention of all operators and to arrange for its publication in the Federal Register.

By Order of the Maritime Administrator.
Dated: December 21, 2001.
Murray A. Bloom,
Acting Secretary.

[FR Doc. 01-32019 Filed 12-27-01; 8:45 am]

BILLING CODE 4910-81-P